NATIONAL TRANSPORTATION SAFETY BOARD

Sunshine Act Meeting

TIME AND DATE: 9:30 a.m., Tuesday, September 24, 2019.

PLACE: NTSB Conference Center, 429 L'Enfant Plaza SW, Washington, DC 20594.

STATUS: The one item is open to the public.

MATTERS TO BE CONSIDERED:

59529 Pipeline Accident Report—Overpressurization of Natural Gas Distribution System, Explosions, and Fires, in Merrimack Valley, Massachusetts, September 13, 2018.

NEWS MEDIA CONTACT: Telephone: (202) 314-6100.

The press and public may enter the NTSB Conference Center one hour prior to the meeting for set up and seating.

Individuals requesting specific accommodations should contact Rochelle McCallister at (202) 314-6305 or by email at Rochelle.McCallister@ntsb.gov by Wednesday, September 18, 2019.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Keith Holloway by email at hollowk@ntsb.gov or at (202) 314-6100.

Authority: 5 U.S.C. 552b.

Dated: Monday, September 9, 2019.
LaSean R. McCray,
Assistant Federal Register Liaison Officer.

[FR Doc. 2019-19773 Filed 9-9-19; 4:15 pm]

BILLING CODE 7533-01-P